DEPARTMENT OF HEALTH AND HUMAN SERVICES

Centers for Medicare & Medicaid Services

[Document Identifier: CMS-339]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Medicare Provider Cost Report Reimbursement Questionnaire and Supporting Regulations in 42 CFR 413.20, 413.24, and 415.60; Form Nos.: CMS-339 (OMB # 0938-0301); Use: The purpose of Form CMS-339 is to assist the provider in preparing an acceptable cost report and to minimize subsequent contact between the provider and its intermediary. Form CMS-339 provides the basic data necessary to support the information in the cost report. This includes information the provider uses to develop the provider and professional components of physician compensation so that compensation can be properly allocated between the Part A and the Part B trust funds. CMS is currently working on eliminating Form CMS-339 and including the applicable questions on the individual cost report forms. Because of the time required to include the applicable questions in each of the individual cost reports, CMS is revising the currently approved information collection; Frequency: Annually; Affected Public: Business or other for-profit, not-for-profit institutions, State, local or tribal governments; Number of Respondents: 35,904; Total Annual Responses: 35,904; Total Annual Hours: 618,210.

To obtain copies of the supporting statement and any related forms for the proposed paperwork collections referenced above, access CMS' Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice to the address below: CMS, Office of Strategic Operations and Regulatory Affairs, Division of Regulations Development, Attention: William N. Parham, III, PRA Analyst, Room C5-13-27, 7500 Security Boulevard, Baltimore, Maryland 21244-1850.

Dated: June 3, 2005.
Jim L. Wickliffe,
CMS Reports Clearance Officer, Regulations Development Group, Office of Strategic Operations and Regulatory Affairs.

[FR Doc. 05-12161 Filed 6-23-05; 8:45 am]

BILLING CODE 4120-01-P